DEPARTMENT OF TRANSPORTATION

Federal Railroad Administration

[Docket No. FRA-2005-23281, Notice No. 2]

Safety of Private Highway-Rail Grade Crossings; Notice of Safety Inquiry

AGENCY: Federal Railroad Administration (FRA), Department of Transportation (DOT).

ACTION: Notice of safety inquiry.

SUMMARY: On July 27, 2006, FRA published a notice announcing its intent to conduct a series of open meetings throughout the United States, in cooperation with appropriate State agencies, to consider issues related to the safety of private highway-rail grade crossings. This notice indicated that the first of these meetings would be held August 30, 2006, in Fort Snelling, Minnesota. Notice No. 2 announces that FRA has scheduled subsequent meetings to be held September 27, 2006, in Raleigh, North Carolina; October 26, 2006, in San Francisco, California; and December 6, 2006, in New Orleans, Louisiana.

At each open meeting, FRA intends to solicit oral statements from private crossing owners, railroads and other interested parties on issues related to the safety of private highway-rail grade crossings, which will include, but will not be limited to, current practices concerning the responsibility for safety at private grade crossings, the adequacy of warning devices at private crossings, and the relative merits of a more uniform approach to improving safety at private crossings. FRA has also opened a public docket on these issues so that interested parties may submit written comments for public review and consideration.

DATES: The initial public meeting was held in Fort Snelling, Minnesota, on August 30, 2006, at the Bishop Henry Whipple Federal Building, One Federal Drive, Fort Snelling, Minnesota 55111, beginning at 9:30 a.m. The second public meeting will be held in Raleigh,North Carolina, on September 27, 2006, at North Carolina State University's McKimmon Conference and Training Center, 1101 Gorman Street, North Carolina State University, Raleigh, North Carolina 27695, beginning at 9:30 a.m. The third public meeting will be held in San Francisco, California, on October 26, 2006, at the Philip Burton Federal Building and Courthouse, 450 Golden Gate Avenue, San Francisco, California 94102, beginning at 9:30 a.m. The fourth public meeting will be held in New Orleans, Louisiana, on December 6, 2006, at the Chateau Sonesta Hotel, 800 Iberville Street, New Orleans, Louisiana 70112, beginning at 9:30 a.m.

Persons wishing to participate are requested to provide their names, organizational affiliation, and contact information to Michelle Silva, Docket Clerk, FRA, 1120 Vermont Avenue, NW., Washington, DC 20590 (telephone 202-493-6030). Persons needing sign language interpretation or other reasonable accommodation for disability are also encouraged to contact Michelle Silva, FRA Docket Clerk, at (202) 493-6030. Additional public meetings will be announced over the next three months.

FOR FURTHER INFORMATION CONTACT: Ron Ries, Office of Safety, FRA, 1120 Vermont Avenue, NW., Washington, DC 20590 (telephone 202-493-6299); Miriam Kloeppel, Office of Safety, FRA, 1120 Vermont Avenue, NW., Washington, DC 20590 (telephone 202-493-6299); or Kathryn Shelton, Office of Chief Counsel, FRA, 1120 Vermont Avenue, NW., Washington, DC 20590 (telephone 202-493-6038).

SUPPLEMENTARY INFORMATION: For additional information, please see the initial notice, published July 27, 2006, in the Federal Register (citation: 71 FR 42713) and available at http://a257.g.akamaitech.net/7/257/2422/01jan20061800/edocket.access.gpo.gov/2006/pdf/06-6501.pdf.

Request for Comments

While FRA solicits discussion and comments on all areas of safety at private highway-rail grade crossings, we particularly encourage comments on the following topics:

• At-grade highway-rail crossings present inherent risks to users, including the railroad and its employees, and to other persons in the vicinity if a train were to derail into an occupied area or release hazardous materials. When passenger trains are involved, the risks are heightened. From the standpoint of public policy, how do we determine whether the creation or continuation of a private crossing is justified?

• Is the current assignment of responsibility for safety at private crossings effective? To what extent do risk-management practices associated with insurance arrangements result in “regulation” of safety at private crossings?

• How should improvement and/or maintenance costs associated with private crossing be allocated?

• Is there a need for alternative dispute resolution mechanisms to handle disputes that may arise between private crossing owners and the railroads?

• Should the State or Federal government assume greater responsibility for safety at private crossings?

• Should there be nationwide standards for warning devices at private crossings or for intersection design of new private grade crossings?

• How do we determine when a private crossing has a public purpose and is subject to public use?

• Should some crossings be categorized as commercial crossings rather than private crossings?

• Are there innovative traffic control treatments that could improve safety at private crossings on major rail corridors, including those on which passenger service is provided?

• Should the DOT request enactment of legislation to address private crossings? If so, what should it include?

Issued in Washington, DC, on September 15, 2006.
Michael J. Logue,
Deputy Associate Administrator for Safety.

[FR Doc. 06-7811 Filed 9-21-06; 8:45 am]

BILLING CODE 4910-06-P